DEPARTMENT OF TRANSPORTATION

National Highway Traffic Safety Administration

[Docket No. NHTSA-2022-0077]

Agency Information Collection Activities; Notice and Request for Comment; Alcohol-Impaired Driving Segmentation Study

AGENCY: National Highway Traffic Safety Administration (NHTSA), Department of Transportation (DOT).

ACTION: Notice and request for comments on a request for approval of a new information collection.

SUMMARY: NHTSA invites public comments about our intention to request approval from the Office of Management and Budget (OMB) for a new information collection. Before a federal agency can collect certain information from the public, it must receive approval from OMB. Under procedures established by the Paperwork Reduction Act of 1995, before seeking OMB approval, federal agencies must solicit public comment on proposed collections of information, including extensions and reinstatement of previously approved collections. This document describes a collection of information for which NHTSA intends to seek OMB approval on a segmentation study related to alcohol-impaired driving and riding (motorcycles). This study's objective is to better understand alcohol-consumption behaviors and how they relate to potential alcohol-impaired driving/riding. The results of this study will help NHTSA inform its consumer messages to reduce fatalities and injuries on US roadways.

DATES: Comments must be submitted on or before August 7, 2023.

ADDRESSES: You may submit comments identified by the Docket No. NHTSA-2022-0077 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact Kil-Jae Hong, Marketing Specialist, Office of Communications and Consumer Information (NCO-0200), (202) 493-0524, National Highway Traffic Safety Administration, 1200 New Jersey Ave. SE, W52-232, Washington, DC 20590.

SUPPLEMENTARY INFORMATION:

Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility and clarity of the information to be collected; and (d) how to minimize the burden of the collection of information on those who are to respond, including the use of appropriate automated, electronic, mechanical or other technological collection techniques or other forms of information technology, e.g., permitting electronic submission of responses. In compliance with these requirements, NHTSA asks for public comments on the following proposed collection of information for which the agency is seeking approval from OMB.

Title: Alcohol-Impaired Driving Segmentation Study.

OMB Control Number: New.

Form Number(s): N/A.

Type of Request: Comments on a new information collection.

Type of Review Requested: Regular.

Requested Expiration Date of Approval: Three (3) years from date of approval.

Summary of the Collection of Information:

NHTSA is seeking approval to conduct a nationwide alcohol-impaired driving segmentation study to learn about alcohol-consumption behaviors and how they relate to potential impaired driving. The one-time voluntary study will be used to obtain information to better understand attitudes and behaviors related to alcohol-impaired driving that will be used to enhance and refine communication strategy and tactics (i.e., more effectively target and message at-risk drivers and motorcycle riders). The study will survey drivers and motorcycle riders ages 21- to 54-years-old because this age range represents the greatest number of alcohol-related driving/riding fatalities according to NHTSA's Fatality Analysis Reporting System (FARS).¹

¹ 2020 Alcohol Impaired Driving (Traffic Safety Facts. Report No. DOT HS 813 294).

The research study will include two components, both being one-time collections. The first component will involve a series of online webcam interviews that will collect qualitative information that will serve as a cognitive test to improve the quantitative survey that will be administered in the second component. The quantitative survey will be administered online and by phone. After collecting the data, segmentation analysis will be done to classify drivers and motorcycle riders according to segments based on common demographics, drinking behaviors, attitudes about drinking and driving/motorcycle riding, and lifestyle characteristics.

Description of the Need for the Information and Proposed Use of the Information: This alcohol-impaired driving segmentation study will help NHTSA better understand its impaired driving campaign audience to communicate messages most effectively about being safe and decreasing impaired driving.

The National Highway Traffic Safety Administration (NHTSA), under the U.S. Department of Transportation (USDOT), was established to reduce the number of deaths, injuries and economic losses resulting from motor vehicle crashes on the nation's highways. In keeping with this mission and to fulfill a congressional mandate to improve highway traffic safety, NHTSA's Office of Communications and Consumer Information (OCCI) is dedicated to eliminating risky behaviors on our nation's roads through public awareness campaigns. One of the most significant NHTSA's OCCI seeks to address through these efforts is drunk driving.

Drunk driving is a significant cause of highway fatalities, injuries and economic losses. Alcohol-impaired driving fatalities totaled 11,654 in 2020, accounting for 30% of all motor-vehicle-crash fatalities.² On average, in 2020, there was an alcohol-impaired driving fatality every 45 minutes.³ Among motorcycle riders, in particular, 27% of riders in fatal crashes were legally drunk—a rate exceeding that of passenger car drivers (23%) and the highest among all vehicle types measured.⁴ Aside from the fatalities, alcohol-impaired driving crashes carried an economic cost of an estimated $44 billion in 2010 (the most recent year for which cost data is available).⁵

² 2020 Alcohol Impaired Driving (Traffic Safety Facts. Report No. DOT HS 813 294).

³ Ibid.

⁴ Ibid.

⁵ National Center for Statistics and Analysis. (2015, July). Overview: 2013 data. (Traffic Safety Facts. Report No. DOT HS 812 169). Washington, DC: National Highway Traffic Safety Administration.

In order for NHTSA's public awareness campaigns on drunk driving to be effective they must effectively “compete” for audience attention in the public domain among hundreds of other major marketers, including those in the alcoholic beverage industry that strategically target messages to particular groups of the public marketplace. In the consumer marketing context and environment, NHTSA must work to convince members of the driving/riding public not to operate vehicles when impaired by alcohol. Accordingly, NHTSA finds that it is necessary to conduct research, as authorized by the National Traffic Motor Vehicle Safety Act, to conduct research that will allow NHTSA to better tailor its communication strategies.

Specifically, NHTSA believes a segmentation analysis such as the one described above would be especially useful to NHTSA. More closely understanding and segmenting drunk drivers and motorcycle riders will enable more effective communications programs. Insights about drunk drivers'/motorcycle riders' lifestyle characteristics, alcohol-consumption behaviors and attitudes towards drunk driving will provide useful, pragmatic information for NHTSA's continuing efforts to address the drunk driving/motorcycle riding issue responsible for so many deaths.

The segmentation profiles will be used by NHTSA's Office of Communications and Consumer Information (OCCI) to better target and reach intended audiences with communications messages and techniques that are relevant and meaningful to people within the target market.

Affected Public: Vehicle Drivers and Motorcycle Riders ages 21-54 (English and Spanish-speaking).

Estimated Number of Respondents: 5,400.

Frequency: One time.

Estimated Total Annual Burden Hours: 3,574.67.

Estimated Total Annual Burden Cost: $119,250.99.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Issued on June 1, 2023.
Juliette Marie Vallese,
Associate Administrator, Office of Communications and Consumer Information.

[FR Doc. 2023-12102 Filed 6-6-23; 8:45 am]

BILLING CODE 4910-59-P